DEPARTMENT OF ENERGY

Notice of Orders Issued Under Section 3 of the Natural Gas Act During January 2019

| FE Docket Nos.
ALPHA GAS & ELECTRIC, LLC | 18-186-NG
DGSC GP INC | 18-190-LNG
DYNEGY MARKETING AND TRADE, LLC | 18-191-NG
SEQUENT ENERGY CANADA CORP | 18-193-NG
TOTAL GAS & POWER NORTH AMERICA, INC | 19-03-NG
NATURGY APROVISIONAMIENTOS S.A | 18-189-LNG 16-199-LNG
ENBRIDGE GAS INC | 18-192-NG 18-71-NG 17-130-NG
ENHANCED SERVICES OF AMERICA, LLC | 19-02-NG
THE CONSUMERS MARKETPLACE INTERNATIONAL TRADING CO. LLC | 19-01-NG
CONSTELLATION LNG, LLC | 19-05-LNG
CRYOPEAK LNG SOLUTIONS CORPORATION | 19-04-LNG

AGENCY: Office of Fossil Energy, Department of Energy.

ACTION: Notice of orders.

SUMMARY: The Office of Fossil Energy (FE) of the Department of Energy gives notice that during January 2019, it issued orders granting authority to import and export natural gas, to import and export liquefied natural gas (LNG), and vacating prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on February 28, 2019.
Amy Sweeney,
Director, Division of Natural Gas Regulation.

APPENDIX—DOE/FE Orders Granting Import/Export Authorizations
4328 | 01/04/19 | 18-186-NG | Alpha Gas & Electric, LLC | Order 4328 granting blanket authority to import natural gas from Canada.
4329 | 01/04/19 | 18-190-LNG | DGSC GP Inc | Order 4329 granting blanket authority to export LNG to Canada by truck.
4330 | 01/04/19 | 18-191-NG | Dynegy Marketing and Trade, LLC | Order 4330 granting blanket authority to import/export natural gas from/to Canada/Mexico.
4331 | 01/04/19 | 18-193-NG | Sequent Energy Canada Corp | Order 4331 granting blanket authority to import/export natural gas from/to Canada.
4332 | 01/23/19 | 19-03-NG | Total Gas & Power North America, Inc | Order 4332 granting blanket authority to import/export natural gas from/to Canada/Mexico, and to import LNG from various international sources by vessel.
4333 | 01/26/19 | 18-189-LNG; 16-199-LNG | Naturgy Aprovisionamientos S.A | Order 4333 granting blanket authority to import LNG from various international sources, and Order 3974-A vacating prior authority.
4334; 4220-A; 4109-A | 01/26/19 | 18-192-NG; 18-71-NG; 17-130-NG | Enbridge Gas Inc | Order 4334 granting blanket authority to import/export natural gas from/to Canada, and Orders 4220-A and 4109-A vacating prior authorities.
4335 | 01/26/19 | 19-02-NG | Enhanced Energy Services of America, LLC | Order 4335 granting blanket authority to import natural gas from Canada.
4336 | 01/26/19 | 19-01-NG | The Consumers Marketplace International Trading Co. LLC | Order 4336 granting blanket authority to export natural gas to Canada/Mexico.
4337 | 01/26/19 | 19-05-LNG | Constellation LNG, LLC | Order 4326 granting long-term authority to import LNG from Trinidad and Tobago, and various international sources by vessel.
4338 | 01/26/19 | 19-04-LNG | Cryopeak LNG Solutions Corporation | Order 4338 granting blanket authority to import/export LNG from/to Canada/Mexico by truck, and to import LNG from various international sources by vessel.

[FR Doc. 2019-04137 Filed 3-6-19; 8:45 am]

BILLING CODE 6450-01-P